DEPARTMENT OF AGRICULTURE

Animal and Plant Health Inspection Service

[Docket No. APHIS-2020-0032]

Deregulation of Light Brown Apple Moth for the Importation of Fruit From New Zealand Into the United States

AGENCY: Animal and Plant Health Inspection Service, USDA.

ACTION: Notice.

SUMMARY: We are advising the public that we have prepared a commodity import evaluation document (CIED) relative to deregulating light brown apple moth (LBAM) requirements for fruit imported from New Zealand into the United States. Currently, fruit imported from New Zealand into the United States must be accompanied by a phytosanitary certificate with an additional declaration stating that the fruit is free of LBAM. Based on the findings of the CIED, we are proposing to remove the requirement for the additional declaration. Accordingly, we propose to revise the U.S. Department of Agriculture's Animal and Plant Health Inspection Service Agricultural Commodity Import Requirements database regarding LBAM requirements for fruit imported from New Zealand into the United States. These proposed changes would harmonize our domestic and import requirements. We are making the CIED available to the public for review and comment.

DATES: We will consider all comments that we receive on or before January 24, 2025.

ADDRESSES: You may submit comments by either of the following methods:

• Federal eRulemaking Portal: Go to https://www.regulations.gov and enter APHIS-2020-0032 in the Search field.

• Postal Mail/Commercial Delivery: Send your comment to Docket No. APHIS-2020-0032, Regulatory Analysis and Development, PPD, APHIS, Station 2C-10.16, 4700 River Road, Unit 25, Riverdale, MD 20737-1238.

Supporting documents and any comments we receive on this docket may be viewed at https://www.regulations.gov by entering APHIS-2020-0032 in the Search field, or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Julie Orr, Regulatory Policy Specialist, IRM, PPQ, APHIS, USDA, 4700 River Road, Unit 133, Riverdale, MD 20737-1236; (301) 851-4022; Julie.Orr@usda.gov.

SUPPLEMENTARY INFORMATION:

Background

Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the importation of fruits and vegetables into the United States, as well as revising existing requirements for the importation of fruits and vegetables. Paragraph (c) of that section provides that the name and origin of all fruits and vegetables authorized importation into the United States, as well as the requirements for their importation, are listed online; they are listed on the U.S. Department of Agriculture's APHIS Agricultural Commodity Import Requirements (ACIR) database (https://acir.aphis.usda.gov/s/).¹ It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

¹ On September 30, 2022, the APHIS Fruits and Vegetables Import Requirements (FAVIR) database was replaced by the ACIR database.

The light brown apple moth (LBAM), Epiphyas postvittana (Tortricidae), is a native pest of Australia and is now widely distributed in New Zealand, the United Kingdom, Ireland, and New Caledonia. LBAM is a pest of concern in the United States and elsewhere because it can damage a wide range of fruits, vegetables, and other valuable plants. It was reported in Hawaii in the late 1800s and detected in Alameda County, California in 2007. In response to the 2007 detection, APHIS conducted delimiting surveys and issued a series of Federal Orders to establish quarantines and host lists and to regulate the movement of LBAM hosts from affected areas.

However, since 2007, APHIS has developed pest risk assessments (PRAs) for a number of LBAM hosts and established that standard commercial production practices are sufficient to remove any risk from the spread of LBAM in commercially produced commodities. As a result, APHIS has determined that due to both the absence of significant damage in commercial agriculture and the availability of effective treatments, Federal involvement to regulate LBAM as a pest of quarantine significance for these commodities appears to be no longer necessary.²

² The Federal Order removing domestic quarantines and other restrictions imposed by previous orders may be viewed at https://www.aphis.usda.gov/plant_health/downloads/da-2021-29-lbam-deregulation.pdf.

Currently, fruit from New Zealand imported into the United States must be accompanied by a phytosanitary certificate with an additional declaration that the fruit is free of LBAM. However, under International Standards for Phytosanitary Measures 20,³ APHIS cannot regulate an imported commodity for a specific pest more stringently than it regulates the commodity domestically unless this discrepancy is technically justified. However, based on the findings of PRAs cited in the commodity import evaluation document (CIED), APHIS has concluded that there is no technical basis for such a discrepancy, and consignments of commercially produced fresh fruit from New Zealand may safely be imported to the United States without significant risk of introducing LBAM. We propose, then, to no longer require the additional declaration of LBAM freedom for the following commodities imported from New Zealand into the United States:

³ The document may be viewed at https://www.fao.org/3/a-y5721e.pdf.

New Zealand:

Apple—Malus domestica

Apricot—Prunus armeniaca

Avocado—Persea americana

Blackberry—Rubus sp.

Blueberry—Vaccinium angustifolium, Vaccinium ashei, Vaccinium corymbosum, Vaccinium virgatum

Cherry—Prunus avium

Currant—Ribes spp.

Feijoa—Acca sellowiana

Grapes—Vitis vinifera

Kiwi—Actinidia spp. (A. deliciosa, A. arguta, A. chinensis, A. kolomikta, A. melanandra, A. polygama, A. rubricaulis var. coriacea

Loquat—Eriobotrya japonica (Into Guam and CNMI)

Nectarine—Prunus persica nucipersica

Peach—Prunus persica var. persica

Pear—Pyrus communis

Plum—Prunus domestica ssp. domestica

Raspberry—Rubus sp.

Sand Pear—Pyrus pyrifolia var. culta

Strawberry—Fragaria x ananassa

Phytosanitary Certificate: If the consignment is not precleared, the consignment must be accompanied by a phytosanitary certificate issued by the National Plant Protection Organization (NPPO) of New Zealand.

Citrus spp.

Persimmon Diospyros kaki

Phytosanitary Certificate: Citrus (or Persimmon) consignments must be accompanied by a phytosanitary certificate issued by the NPPO of New Zealand with an additional declaration stating the fruit is free of Cnephasia jactatana, Coscinoptycha improbana, Ctenopseustis obliquana, Pezothrips kellyanus, and Planotortrix excessana.

In accordance with § 319.56-4(c)(3), we are announcing the availability of our CIED for public review and comment. This document, as well as a description of the economic considerations associated with removing the LBAM declaration requirement for fruit imported from New Zealand into the United States, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding whether to remove the declaration requirement for LBAM freedom for the importation of fruit from New Zealand in a subsequent notice. If the overall conclusions of our analysis and the Administrator's determination of risk remain unchanged following our consideration of the comments, then we will remove the requirement for the importation of fruit from New Zealand as described in this notice.

Authority: 7 U.S.C. 1633, 7701-7772, and 7781-7786; 21 U.S.C. 136 and 136a; 7 CFR 2.22, 2.80, and 371.3.

Done in Washington, DC, this 19th day of November 2024.
Michael Watson,
Administrator, Animal and Plant Health Inspection Service.

[FR Doc. 2024-27563 Filed 11-22-24; 8:45 am]

BILLING CODE 3410-34-P